DEPARTMENT OF LABOR

Mine Safety and Health Administration

Petitions for Modification

The following parties have filed petitions to modify the application of existing safety standards under section 101(c) of the Federal Mine Safety and Health Act of 1977.

1. Penn Big Bed Slate Company, Inc.

[Docket No. M-2004-006-M]

Penn Big Bed Slate Company, Inc., 8450 Brown Street, P.O. Box 184, Slatington, Pennsylvania 18080 has filed a petition to modify the application of 30 CFR 56.19012 (Grooved drums) (MSHA I.D. No. 36-00207) located in Lehigh County, Pennsylvania. The petitioner requests a modification of the standard concerning the oversized grooves on the drums for cranes used at the Manhattan Quarry. The petitioner states that the ⅝-inch size rope does not flatten nor restrict the free sliding action of the wires and strands. The petitioner further states that the rope has 30 to 65 feet cut-off to ensure that the rope is safe. The petitioner has listed specific terms and conditions in this petition for modification to support the use of its proposed alternative method. The petitioner asserts that the oversized grooves will not create any unsafe conditions, and that the proposed alternative method would provide at least the same measure of protection as the existing standard.

2. Eastern Associated Coal Corporation

[Docket No. M-2004-023-C]

Eastern Associated Coal Corporation, 1970 Barrett Court, P.O. Box 1990, Henderson, Kentucky 42420 has filed a petition to modify the application of 30 CFR 75.364(b) (Weekly examination) to its Federal No. 2 Mine (MSHA I.D. No. 46-01456) located in Monogalia County, West Virginia. Due to deteriorating conditions in portions of the main return air courses (North Airways and South Airways) in the C Shaft area, the petitioner proposes to establish evaluation points to monitor the air moving through the affected areas. The petitioner will establish two evaluation points in the North airways at the outby end of the area, and in the inby end of the North Airways due to roof falls; establish one evaluation point in the South Airway at the intake end near 2 East Mains due to massive roof falls in the south area of the C Shaft and use current evaluation points at the C Shaft to monitor for harmful gases; and establish one evaluation point in 1 East Mains at the inby end of the affected area. The petitioner states that a certified person will check the evaluation points at least every 7 days to determine the quantity and quality of air in the affected area, and record their initials, the date, and time of the examination(s) on a date board that will be located at each evaluation point; and that methane in excess of 2.0 percent will not be allowed to accumulate in any airway. If methane increases 0.5 percent or more, an immediate investigation will be conducted in the affected area. The petitioner asserts that the proposed alternative method would provide at least the same measure of protection as the existing standard and will eliminate the hazard of people working in the affected area.

3. Consolidation Coal Company

[Docket No. M-2004-024-C]

Consolidation Coal Company, 1800 Washington Road, Pittsburgh, Pennsylvania 15241 has filed a petition to modify the application of 30 CFR 75.364(b)(2) (Weekly examination) to its Loveridge No. 22 Mine (MSHA I.D. No. 46-01433) located in Marion County, West Virginia. The petitioner requests a modification of the existing standard which requires a certified person to make a weekly examination of the return air course from the Sugar Run seals to the 3 North Bleeder seals. Due to deteriorating rib and roof conditions, traveling the entire area of the Sugar Run 3 North Bleeder seals to make weekly examinations would expose personnel to hazardous conditions. The petitioner proposes to establish evaluation check points 1 and 2 to evaluate and confirm the proper ventilation between the Sugar Run seals and the 3 North Bleeder seal areas through the Main North headings. The petitioner states that these check points will be maintained in a safe condition at all times; and the quality and quantity of air at the check points will be measured on a weekly basis by a certified person who will record his/her initials, the date, and the time of the examinations in a record book that will be kept on the surface for six months and made available for inspection by interested persons. The petitioner asserts that the proposed alternative method would provide at least the same measure of protection as the existing standard.

Request for Comments

Persons interested in these petitions are encouraged to submit comments via e-mail to comments@msha.gov, by fax at (202) 693-9441, or by regular mail to the Office of Standards, Regulations, and Variances, Mine Safety and Health Administration, 1100 Wilson Boulevard, Room 2350, Arlington, Virginia 22209. All comments must be postmarked or received in that office on or before July 26, 2004. Copies of these petitions are available for inspection at that address.

Dated at Arlington, Virginia this 18th day of June 2004.
Marvin W. Nichols, Jr.,
Director, Office of Standards, Regulations, and Variances.

[FR Doc. 04-14399 Filed 6-24-04; 8:45 am]

BILLING CODE 4510-43-P